ENVIRONMENTAL PROTECTION AGENCY

40 CFR Parts 51 and 52

[OAR-2003-0200; FRL-7966-2]

RIN 2060-AM98

Revisions to the California State Implementation Plan and Revision to the Definition of Volatile Organic Compounds (VOC)—Removal of VOC Exemptions for California's Aerosol Coating Products Reactivity-based Regulation

Correction

In rule document 05-18016 beginning on page 53930 in the issue of Tuesday, September 13, 2005, make the following correction:

On page 53931, in the first column, in footnote 1, in the first line, “http:www.arb.ca.gov/colsprod/reg/apt.pdf” should read “http://www.arb.ca.gov/consprod/regs/apt.pdf”.

[FR Doc. C5-18016 Filed 9-19-05; 8:45 am]

BILLING CODE 1505-01-D